NATIONAL FOUNDATION ON THE ARTS AND HUMANITIES

Study of IMLS Funded Digital Collections and Content, Collections Registry Survey, Submission for OMB Clearance

AGENCY: Institute of Museum and Library Services, National Foundation on the Arts and Humanities.

ACTION: Submission to OMB for Clearance.

SUMMARY: The Institute of Museum and Library Services announces the following information collection has been submitted to the Office of Management and Budget for review and approval in accordance with the Paperwork Reduction Act of 1995 (Pub. L. 104-13, 44 U.S.C. Chapter 35). A copy of this proposed form, with applicable supporting documentation, may be obtained by calling the Institute of Museum and Library Services, Director of Research and Technology, Rebecca Danvers at (202) 653-4680. IMLS seeks OMB clearance for study of IMLS Funded Digital Collections and Content, Collections Registry Survey.

DATES: Comments must be received by January 2, 2007. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: For a copy of the form contact: Rebecca Danvers, Director of Research and Technology, Institute of Museum and Library Services, 1800 M St., NW., 9th floor, Washington, DC 20036, telephone 202-653-4680, fax 202-653-4625, e-mail rdanvers@imls.gov.

SUPPLEMENTARY INFORMATION:

I. Background

The Institute of Museum and Library Services is an independent Federal grant-making agency authorized by the Museum and Library Services Act, Public Law 104-208, as amended. The IMLS provides a variety of grant programs to assist the nation's museums and libraries in improving their operations and enhancing their services to the public. Museums and libraries of all sizes and types may receive support from IMLS programs. The Museum and Library Services Act, 20 U.S.C. Section 9101, et seq. authorizes the Director of the Institute of Museum and Library Services to make grants to museums and other entities as the Director considers appropriate. In the National Leadership Grant program, IMLS funds the digitization of library and museum collections. The survey is a Web-based form to collect electronically collection level data about digitization projects funded by the Institute of Museum and Library Services through the National Leadership and Grants to State Libraries programs.

II. Current Actions

To collect information from grantee institutions that received IMLS digitization grants since 2005.

Agency: Institute of Museum and Library Services.

Title: Museum Grants for African American History and Culture Program Guidelines.

OMB Number: 3137-051.

Agency Number: 3137.

Frequency: Once.

Affected Public: museums and libraries that created digital collections with IMLS funding.

Number of Respondents: 50.

Estimated Time Per Respondent: .5 hours.

Total Burden Hours: 25.

Total Annualized capital/startup costs: $0.

Total Annual costs: $625.

Contact: Comments should be sent to Office of Information and Regulatory Affairs, Attn.: OMB Desk Officer for Education, Office of Management and Budget, Room 10235, Washington, DC 20503, (202) 395-7316.

Dated: November 27, 2006.
Rebecca Danvers,
Director Research and Technology.

[FR Doc. E6-20369 Filed 11-30-06; 8:45 am]

BILLING CODE 7036-01-P